DEPARTMENT OF THE INTERIOR

Bureau of Reclamation

Fort Peck Assiniboine and Sioux Water Supply and Dry Prairie Rural Water Supply Project, Water Conservation Plan

AGENCY: Bureau of Reclamation, Interior.

ACTION: Notice of finding.

SUMMARY: The Fort Peck Reservation Rural Water System Act of 2000 (Act), Public Law 106-382, authorized construction of the Fort Peck Reservation Rural Water System in northeastern Montana. To meet the requirements of the Act, the Fort Peck Tribes and Dry Prairie Rural Water Association Incorporated developed and submitted a water conservation plan to Reclamation.

FOR FURTHER INFORMATION CONTACT: Leonard Duberstein, Bureau of Reclamation, Montana Area Office, PO Box 30107, Billings, Montana 59107-0137, or at (406) 247-7331 or be e-mail at lduberstein@gp.usbr.gov.

SUPPLEMENTARY INFORMATION:

Finding

The Fort Peck Tribes and the Dry Prairie Rural Water Association Incorporated submitted the “Water Conservation Plan for the Fort Peck Reservation Rural Water System: Fort Peck Assiniboine and Sioux Rural Water System and Dry Prairie Rural Water System”, dated April 10, 2002, that includes prudent and reasonable water conservation measures for the operation of the Assiniboine Sioux Rural Water System that have been shown to be economically and financially feasible.

In addition to authorizing construction of the Fort Peck Reservation Rural Water System, the Act authorizes appropriations of $175,000,000 to Reclamation over a period of 10 fiscal years. The Act states under section 4(g)(3) that “The Secretary shall not obligate funds for construction of the Assiniboine and Sioux Rural Water System until the Secretary publishes a written finding that the water conservation plan developed under section 7 includes prudent and reasonable water conservation measures for the operation of the Assiniboine Sioux Rural Water System that have been shown to be economically and financially feasible.” Identical provisions limiting obligations of funds for construction of the Dry Prairie Rural Water System are stated under section 5(e)(3) of the Act.

The requirements for the conservation plan are described under section 7 of the Act that states:

“(a) In General.—The Fort Peck Tribes and Dry Prairie Rural Water Association Incorporated shall develop a water conservation plan containing—

(1) a description of water conservation objectives;

(2) a description of appropriate water conservation measures; and

(3) a time schedule for implementing the measures and this Act to meet the water conservation objectives.

(b) Purpose.—The water conservation plan under subsection (a) shall be designed to ensure that users of water from the Assiniboine and Sioux Rural Water System and the Dry Prairie Rural Water System will use the best practicable technology and management techniques to conserve water.”

To fulfill the requirements of section 7, the Fort Peck Tribes and Dry Prairie Rural Water Association Incorporated transmitted a water conservation plan (Plan) to Reclamation, dated April 10, 2002. The Plan fulfills all the requirements of the Act as discussed below.

In fulfillment of section 7(a)(1), the Plan contains six reasonable and prudent water conservation objectives appropriate for the pre-construction phase of this multi-phase project:

1. Achieve average in-house water use of 69 gpcd (gallons per capita day) starting in 2005 and fully implemented by 2011.

• Lower average in-house water use to 57 gpcd beginning in 2011 and fully implemented by 2030.

• Lower average in-house water use to 45 gpcd beginning in 2030.

2. Achieve average outside residential water use of 66 gpcd beginning in 2005 and fully implemented by 2011.

3. Maintain variable operating costs at Final Engineering Report levels plus inflation beginning in 2005.

4. Provide emergency preparedness to limit interruptions to 24 hours beginning in 2005.

5. Public information dissemination beginning in 2005.

6. Limit Missouri River diversions to 6,200 acre-feet annually beginning in 2005.

To accomplish these objectives, and in fulfillment of section 7(a)(2) of the Act, the Plan identifies 17 water conservation measures to be implemented starting in 2005 with full implementation scheduled for 2011.

Metering, Audits, and Leakage Control

• Installation of meters on all accounts

• Installation of meters on community non-account water

• Record keeping and water audits

• Control connection pressures at 65 pounds per square inch (psi)

• Implement system and household leakage repair; limit to 7 gpcd

• Publish lawn and garden water use data

Cost Accounting and Rates

• Cost-of-service accounting

• Water audits and associated costs to public

• Dry Prairie annual water review to promote conservation

• Assiniboine and Sioux leak repair program

Public Involvement and Information

• Disseminate clear billing and educational materials

• Disseminate water use statistics and retrofit guidance

• Promote landscape efficiency on a voluntary basis

• Promote lawn and garden water use efficiencies

• Disseminate cost information via radio, television, etc.

Additional Measures

• Analysis of peak water use

• Annual review of water conservation measures and new proposals

Reclamation Manual Directives and Standards (WTR 01-01), published in December 1996, identify “Fundamental Water Conservation Measures” that are considered economically and financially feasible and applicable to all water conservation programs. The fundamental measures include a water measurement and accounting system, water pricing structure, and an information and education program. All but one of the water conservation measures included in the Plan are considered by Reclamation as fundamental. The conservation measure “Control connection pressures at 65 psi”, while not considered fundamental, is an appropriate water conservation measure and will not result in increased project cost. It is an acceptable design standard because it will reduce the potential for leakage from excess water pressure which can also damage residential plumbing systems causing major leakage and significant property damage.

In fulfillment of section 7(a)(3), the plan contains a time schedule for implementing the measures to meet the water conservation objectives. This time schedule is included with the above description of the objectives and measures.

In fulfillment of section 7(b), Reclamation has reviewed the planning and engineering designs included in the Final Engineering Report for this project and has conducted a “Value Engineering” (VE) study to assure that the best available engineering design and techniques are utilized for construction and operation of the project. Additional VE studies will be performed during the final design phase of major system components.

Dated: August 2, 2002.
Gerald W. Kelso,
Assistant Regional Director.

[FR Doc. 02-22580 Filed 9-4-02; 8:45 am]

BILLING CODE 4310-MN-M